SURFACE TRANSPORTATION BOARD

[Docket No. FD 36870]

Port Rail, Inc.—Operation Exemption—in Lake Charles, Calcasieu Parish, La.

Port Rail, Inc. (Port Rail), a Class III carrier, has filed a verified notice of exemption pursuant to 49 CFR 1150.41 to lease from the Lake Charles Harbor and Terminal District (the District) and operate two segments of track, known as the East Industrial Track and the South Industrial Track, extending a total distance of approximately 13.59 miles in Lake Charles, Calcasieu Parish, La. (collectively, the Subject Track). The East Industrial Track extends approximately 0.99 miles from a connection with Union Pacific Railroad Company (UP), at milepost 2.22 on UP's Lake Charles Industrial Lead east of Runway 15/33 at Chennault International Airport, in a northeasterly direction to its terminus at the south end of James Sudduth Parkway. The South Industrial Track extends approximately 12.6 miles from a connection with UP, at milepost 4.13 on UP's Lake Charles Industrial Lead near the intersection of East Ward Line Road (LA 397) and Farm Road, in a southwesterly direction to its terminus at the Lake Charles Carbon Company (Alcoa) facility near the intersection of Big Lake Road and West Lincoln Road. The Subject Track does not have mileposts.

According to the verified notice, since 2016, Port Rail has leased the Subject Track from the District, pursuant to two lease agreements, one governing the East Industrial Track and the other governing the South Industrial Track. Port Rail states that, under those agreements, it has used the Subject Track to conduct “railcar storage and limited unregulated switching operations.” Port Rail and the District amended and extended each agreement in 2025, and Port Rail states that “[n]o further changes to those agreements are required or contemplated in connection with Port Rail's operation of the Subject [Track] as a common carrier.” ¹ (Notice 2.) According to the verified notice, Port Harbor will begin common carrier operations on or after the effective date of the exemption.

¹ Port Rail included copies of the amended agreements as Exhibit D to its verified notice of exemption. See Macrie—Continuance in Control Exemption—N.J. Seashore Lines, Inc., FD 35296 et al., slip op. at 3-4 (STB served Aug. 31, 2010).

According to Port Rail, the amended lease agreements contain no restrictions on Port Rail interchanging traffic with any rail carriers. Port Rail also certifies that its projected annual revenues due to this transaction will not result in the creation of a Class II or Class I rail carrier and will not exceed $5 million.

The transaction may be consummated on or after August 28, 2025, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than August 21, 2025 (at least seven days before the exemption becomes effective).

All pleadings, referring to Docket No. FD 36870, must be filed with the Surface Transportation Board either via e-filing on the Board's website or in writing addressed to 395 E Street SW, Washington, DC 20423-0001. In addition, a copy of each pleading must be served on Port Rail's representative, Thomas J. Litwiler, Fletcher & Sippel LLC, 29 North Wacker Drive, Suite 800, Chicago, IL 60606-3208.

According to Port Rail, this action is categorically excluded from environmental review under 49 CFR 1105.6(c) and from historic preservation reporting requirements under 49 CFR 1105.8(b).

Board decisions and notices are available at www.stb.gov.

Decided: August 8, 2525.
By the Board, Anika S. Cooper, Chief Counsel, Office of Chief Counsel.
Kenyatta Clay,
Clearance Clerk.

[FR Doc. 2025-15393 Filed 8-13-25; 8:45 am]

BILLING CODE 4915-01-P